DEPARTMENT OF EDUCATION

Applications for New Awards; Personnel Development To Improve Services and Results for Children With Disabilities Program—Preservice Program Development Grants at Historically Black Colleges and Universities, Tribally Controlled Colleges and Universities, and Other Minority Serving Institutions To Diversify Personnel Serving Children With Disabilities

AGENCY: Office of Special Education and Rehabilitative Services, Department of Education.

ACTION: Notice.

SUMMARY: The Department of Education (Department) is issuing a notice inviting applications for new awards for fiscal year (FY) 2024 for Personnel Development to Improve Services and Results for Children with Disabilities Program—Preservice Development Grants at Historically Black Colleges and Universities, Tribally Controlled Colleges and Universities, and Other Minority Serving Institutions to Diversify Personnel Serving Children with Disabilities, Assistance Listing Number 84.325X. This notice relates to the approved information collection under OMB control number 1820-0028.

DATES:

Applications Available: January 25, 2024.

Deadline for Transmittal of Applications: April 4, 2024.

Deadline for Intergovernmental Review: June 3, 2024.

Pre-Application Webinar Information: No later than January 30, 2024, the Office of Special Education Programs and Rehabilitative Services will post pre-recorded informational webinars designed to provide technical assistance (TA) to interested applicants. The webinars may be found at https://www2.ed.gov/fund/grant/apply/osep/new-osep-grants.html.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs.

FOR FURTHER INFORMATION CONTACT: Tracie Dickson, U.S. Department of Education, 400 Maryland Avenue SW, Room 4A10 Washington, DC 20202. Telephone: (202) 245-7844. Email: Tracie.Dickson@ed.gov.

If you are deaf, hard of hearing, or have a speech disability and wish to access telecommunications relay services, please dial 7-1-1.

SUPPLEMENTARY INFORMATION:

Full Text of Announcement

I. Funding Opportunity Description

Purpose of Program: The purposes of this program are to (1) help address State-identified needs for personnel preparation in special education, early intervention, related services, and regular education to work with children, including infants, toddlers, and youth with disabilities; and (2) ensure that those personnel have the necessary skills and knowledge, derived from practices that have been determined through scientifically based research, to be successful in serving those children.

Priority: This competition includes one absolute priority. In accordance with 34 CFR 75.105(b)(2)(v), the absolute priority is from allowable activities specified in the statute (see sections 662 and 681 of the Individuals with Disabilities Education Act (IDEA) (20 U.S.C. 1462 and 1481)).

Absolute Priority: For FY 2024 and any subsequent year in which we make awards from the list of unfunded applications from this competition, this priority is an absolute priority. Under 34 CFR 75.105(c)(3), we consider only applications that meet this priority.

This priority is:

Preservice Development Grants at Historically Black Colleges and Universities, Tribally Controlled Colleges and Universities, and Other Minority Serving Institutions To Diversify Personnel Serving Children With Disabilities.

Background:

Special education and related services personnel are at the top of the critical shortage list in educational systems in nearly every State, especially in urban areas (U.S. Department of Education, 2023b; American Speech Language Hearing Association, n.d.; National Coalition on Personnel Shortages in Special Education and Related Services, n.d.). In a national survey of Part C State coordinators, 98 percent of respondents indicated that they had shortages of personnel to work in their early intervention system (IDEA Infant and Toddler Coordinators Association, 2021). These shortages impede the ability of children with disabilities to reach their full potential (Center on Great Teachers and Leaders, 2023a). Compounding the issue is the critical shortage of early intervention, special education, and related services personnel who are multilingual and racially, ethnically, and culturally diverse (Center on Great Teachers and Leaders, 2023a). For example, the Office of Special Education Program's (OSEP's) Personnel Development Program Data Collection System data show that graduates of OSEP-supported early intervention and special education doctoral programs were 78 percent White, 5 percent Hispanic, 6 percent Black, 6 percent Asian, and 5 percent unreported, which does not match the demographics of children (U.S. Department of Education, Office of Special Education Programs (OSEP), 2021).

Enhancing equity within early intervention and special education systems requires a specific focus on preservice preparation so that the future workforce has the competencies to support the developmental and learning needs of children with disabilities, including the increasing population of children with disabilities who are multilingual and racially, ethnically, and culturally diverse (Center on Great Teachers and Leaders, 2023b). Diversifying the workforce can have positive impacts on all children. All children, and particularly multilingual children and children from racially and ethnically diverse backgrounds, with and without disabilities, demonstrate improved academic achievement and behavioral and social and emotional development when they receive services from personnel who are multilingual and from racially, ethnically, and culturally diverse backgrounds (Kunemund et al., 2020).

Historically Black Colleges and Universities (HBCUs), Tribally Controlled Colleges and Universities (TCCUs), and other Minority Serving Institutions (MSIs) have the experience and expertise to recruit, prepare, and graduate students who are multilingual and racially, ethnically, and culturally diverse. However, there are currently a limited number of HBCUs, TCCUs, and other MSIs that operate the programs required to train the number of students needed to address the critical shortage. Therefore, there is a need to increase the number of early intervention, early childhood special education, special education, and related services programs in HBCUs, TCCUs, and other MSIs. For example, of all Black teachers nationwide, nearly half are graduates of HBCUs (U.S. Department of Education, 2023a). Yet, of the 103 HBCUs, only 27 offer a special education preparation program (Patterson et al., 2022). There are currently 32 fully accredited TCCUs (National Indian Education Association, n.d.), with nine offering bachelor's degrees in early childhood education, eight offering bachelor's degrees in general education, and only one offering a bachelor's degree in special education. Additionally, many special education programs at HBCUs and MSIs focus on high-incidence disabilities and do not offer degree programs that prepare graduates to serve children with high-intensity needs, such as sensory disabilities. As an example, since 2006, OSEP has only awarded two grants to HBCUs to prepare teachers of students with visual impairments (TVIs) and only five grants to MSIs to prepare TVIs. Additionally, only one HBCU currently offers a degree preparing teachers of students who are deaf or hard of hearing and teachers of students who are DeafBlind.

To address shortages and diversify the workforce in early intervention, early childhood special education, special education, and related services personnel, HBCUs, TCCUs, and MSIs need support to develop associate's, bachelor's, certificate, master's, educational specialist, and clinical doctoral degree level programs (Escobar et al., 2021; Murray et al., 2022; Lamb, 2016). To increase the number of personnel who are fully credentialed and licensed to enter the field to serve children with disabilities and their families, including multilingual personnel and personnel from racially and ethnically diverse backgrounds, this grant competition plans to award grants to HBCUs, TCCUs, and MSIs to develop new degree and certification programs in early intervention, early childhood special education, special education, and related services. This priority aligns with the Secretary's Supplemental Priority 3—Supporting a Diverse Educator Workforce and Professional Growth to Strengthen Student Learning, published in the Federal Register on December 10, 2021 (86 FR 70612).

Priority:

The purpose of this priority is to fund Preservice Development Grants at HBCUs,¹ TCCUs,² and MSIs ³ to Diversify Personnel Serving Children with Disabilities. OSEP may fund out of rank order applications from HBCUs and TCCUs to increase the number of funded applications from these institutions. Projects are expected to achieve, at a minimum, the following expected outcomes:

¹ For purposes of this priority, “Historically Black Colleges and Universities” means colleges and universities that meet the criteria set out in 34 CFR 608.2.

² For purposes of this priority, “Tribally Controlled Colleges and Universities” has the meaning ascribed to it in section 316(b)(3) of the Higher Education Act of 1965 (HEA).

³ For purposes of this priority, “Minority-Serving Institution” means an institution that is eligible to receive assistance under sections 316 through 320 of part A of title III, under part B of title III, or under title V of the HEA. For purposes of this priority, the Department will use the FY 2023 Eligibility Matrix to determine MSI eligibility (see https://www2.ed.gov/about/offices/list/ope/idues/eligibility.html).

(a) Increased number of early intervention, early childhood special education, special education, or related services ⁴ personnel who are multilingual and from racially and ethnically diverse backgrounds, and who have the competencies to work with infants, toddlers, children and youth (children) with disabilities and their families within early intervention, early childhood programs, or school settings;

⁴ For the purposes of this priority, “related services” includes the following: speech-language pathology and audiology services; assistive technology services; sign language interpreting services; intervener services; psychological services; applied behavior analysis; physical therapy and occupational therapy; recreation, including therapeutic recreation; artistic and cultural services, including music, art, dance and movement therapy; social work services; counseling services, including rehabilitation counseling; and orientation and mobility services.

(b) Increased variety of degrees, including associate degrees, bachelor's degrees, master's degrees, educational specialist degrees, and clinical doctorate degrees, and certifications ⁵ in early intervention, early childhood special education, special education, and related services offered at HBCUs, TCCUs, and MSIs; and

⁵ For the purposes of this priority, “certification” refers to programs of study for individuals with bachelor's, master's, educational specialist, or clinical doctoral degrees that lead to licensure, endorsement, or certification from a State or national credentialing authority following completion of the degree program that qualifies graduates to teach or provide services to children with disabilities. Programs of study that lead to a certificate of completion awarded from an institution of higher education (IHE), but do not lead to licensure, endorsement, or certification from a State or national credentialing authority, do not qualify.

(c) Increased faculty capacity at HBCUs, TCCUs, and MSIs to design and deliver programs of study in early intervention, early childhood special education, special education, and related services.

In addition to these programmatic requirements, to be considered for funding under this priority, applicants must meet the application and administrative requirements in this priority, which are:

(a) Demonstrate, in the narrative section of the application under “Significance,” how—

(1) The proposed project will address the need in the field to increase the number of personnel in the proposed degree or certification area—including those who are multilingual and from racially and ethnically diverse backgrounds—who are fully qualified to serve children with disabilities and their families and provide equitable, evidence-based,⁶ culturally and linguistically responsive instruction, interventions, and services, that improve outcomes for children with disabilities—including children of color with disabilities and children with disabilities who are multilingual—and support their full and equitable participation, development, and learning.

⁶ For the purposes of this priority, “evidence-based” means, at a minimum, evidence that demonstrates a rationale (as defined in 34 CFR 77.1), where a key project component (as defined in 34 CFR 77.1) included in the project's logic model (as defined in 34 CFR 77.1) is informed by research or evaluation findings that suggest the project component is likely to improve relevant outcomes (as defined in 34 CFR 77.1).

To meet this requirement, the applicant must provide information demonstrating that it has successfully graduated students from an education or related services program that is related to the degree or certification being proposed, including data on the number of students who have graduated in the last five years disaggregated by race, national origin, disability status, and primary language(s).

(b) Demonstrate, in the narrative section of the application under “Quality of project services,” how the project will—

(1) Develop a plan to create a new associate degree, bachelor's degree, certification, master's degree, educational specialist degree, or clinical doctoral degree program in early intervention, early childhood special education, special education, or related services during the first 24 months of the project. To address this requirement, the applicant must describe the approach that will be used to—-

(i) Develop a curriculum, including coursework and field or clinical practicum experiences, and academic requirements for the proposed degree or certification to prepare early intervention, early childhood special education, special education, or related services personnel to provide effective and equitable, evidence-based, culturally and linguistically responsive instruction, interventions, and services, that improve outcomes for children with disabilities, including those who are multilingual and from racially and ethnically diverse backgrounds. The applicant must describe—

(A) The components of the proposed curriculum such as coursework, field or practicum experience, and other requirements; and the anticipated time to complete the degree or certification program;

(B) How it will identify and incorporate current research, evidence-based practices, and State and national professional organization personnel standards in the development and delivery of the curriculum;

(ii) Determine the knowledge and competencies students will acquire in the proposed program, including knowledge and competencies necessary to provide effective and equitable, evidence-based, culturally and linguistically responsive instruction, interventions, and services, that improve outcomes for children with disabilities, including children with disabilities who are multilingual and from racially and ethnically diverse backgrounds;

(iii) Develop partnerships with field placement and clinical practicum sites to prepare early intervention, early childhood special education, special education, or related services personnel to provide effective and equitable, evidence-based, culturally and linguistically responsive instruction, interventions, and services in inclusive setting, that improve outcomes for children with disabilities, including children with disabilities who are multilingual and from racially and ethnically diverse backgrounds;

(iv) Establish admission and enrollment plans, including setting first-year enrollment targets and overall steady-state program enrollment; setting admission requirements and the admissions process; and developing recruitment and retention plans to attract students, including those who are multilingual and from racially and ethnically diverse backgrounds;

(v) Advise and mentor students, including those who are multilingual and those from racially and ethnically diverse backgrounds to support their successful completion of the degree or certification program; and

(vi) Develop the capacity of faculty and staff to develop a new degree or certification program; and

(2) Have the structures in place to implement the new degree or certification program by year four of the project. To meet this requirement, the applicant must describe the proposed approach to—

(i) Ensuring that faculty and staff have the capacity to implement the new degree or certification program;

(ii) Developing a leadership plan that describes the role of faculty, including the department chair or director, in implementing the new degree or certification program, including implementation of the admissions process, recruitment strategies, degree requirements, and advising and mentoring; and

(iii) Ensuring the sustainability of the project once Federal funding ends.

(c) Demonstrate, in the narrative section of the application under “Quality of the project personnel and quality of management plan,” how—

(1) The proposed project will encourage applications for employment from persons who are members of groups that have traditionally been underrepresented based on race, color, national origin, gender, age, or disability, as appropriate;

(2) The project director and key project personnel have the qualifications and experience to carry out the proposed activities and achieve the project's intended outcomes;

(3) The proposed project will approach identifying a sufficient number of faculty with active records of content expertise, research, and teaching experience, including faculty who are multilingual and from racially and ethnically diverse backgrounds, aligned to the new degree or certification program;

(4) The project director and other key project personnel will manage the components of the project;

(5) The time commitments of the project director and other key project personnel are adequate to meet the objectives of the proposed project;

(6) The proposed management plan will ensure that the project will meet the proposed objectives and the degree or certification program will be of high quality; and

(7) The proposed project will benefit from a diversity of perspectives, including faculty, community partners, current and prospective students, families of children with disabilities, and early intervention, early childhood and school personnel, among others, in its development and operation.

(d) Demonstrate, in the narrative section of the application under “Adequacy of resources,” how—

(1) The applicant and any key partners have adequate resources to carry out the proposed activities; and

(2) The budget is adequate for meeting the project objectives.

(e) Demonstrate, in the narrative section of the application under “Quality of the project evaluation,” how the applicant will—

(1) Evaluate how well the goals or objectives of the proposed project have been met. To meet this requirement the applicant must provide—

(i) Measurable intended project outcomes;

(ii) In Appendix A, the logic model by which the proposed project will achieve its intended project outcomes that depicts, at minimum, the goals, activities, outputs, and outcomes;

(iii) In Appendix A, the conceptual framework underlying the new degree or certification program, project plans and activities, describing any underlying concepts, assumptions, expectations, beliefs, or theories, as well as the presumed relationships or linkages among these variables, and any empirical support for this framework; and

(iv) The evaluation methodologies, data collection methods, and data analyses that will be used.

(f) In the appendices or narrative under “Required project assurances” the applicant must—

(1) Include in Appendix A, charts, tables, figures, graphs, screen shots and visuals that provide information directly relating to the application requirements for the narrative. Appendix A should not be used for supplementary information. Please note that charts, tables, figures, graphs, or screen shots, can be single-spaced when placed in Appendix A;

(2) Include in Appendix B any letters of commitment or support. The applicant must include a letter of commitment from the dean or designee of the school or college where the program will be administratively located affirming support for the proposal. In addition, deans or designees, chairs, and directors of academic units contributing courses, faculty effort, funding, space, or other resources for the proposed program must provide letters of support that confirm these commitments;

(3) Ensure that if the project maintains a website, it will be of high quality, with an easy-to-navigate design that meets or exceeds government or industry-recognized standards for accessibility;

(4) Include in the budget, attendance at a three-day project directors' conference in Washington, DC, during each year of the project period. The project must reallocate funds for travel to the project directors' meeting no later than the end of the third quarter of each budget period if the meeting is conducted virtually; and

(5) Provide an assurance that the project—

(i) Will submit the curriculum and syllabi for courses in the new degree or certification program, the admissions plan, the student recruitment plan, the plan for advising and mentoring students, and the roles of faculty and staff in the program when requested by OSEP; and

(2) Will participate in collaboration meetings with other grantees funded under ALN 84.325X and will engage with OSEP-funded TA centers as appropriate.

Third, Fourth, and Fifth Years of Project

The Secretary may extend a project three years beyond the initial two years of the project if the grantee is achieving the intended outcomes of the project. By the end of the second year of the project, the grantee must have a new degree or certification plan approved by the university. By the end of the third year of the project, the grantee must have the infrastructure in place to begin recruiting students for the program. By the end of the fourth year of the project, the grantee must admit students and begin delivering the new degree or certification program. Each applicant must include in its application a plan and a budget for the full 60-month period. In deciding whether to extend funding for years three, four, and five of the project, the Secretary will consider the requirements of 34 CFR 75.253(a) and will consider the success and timeliness with which the intended outcomes of the project requirements have been, or are being, met by the project.

References

American Speech Language Hearing Association. (n.d.). Recruiting and retaining qualified school-based SLPs. www.asha.org/careers/recruitment/schools/.

Center on Great Teachers and Leaders. (2023a). Prioritizing an integrated approach to educator shortages and workforce diversity, Part 1: An effective workforce is a diverse workforce. www.air.org/sites/default/files/2023-10/Prioritizing-Integrated-Approach-Educator-Shortages-Workforce-Diversity-Part-1-October-2023-v2.pdf.

Center on Great Teachers and Leaders. (2023b). Prioritizing an integrated approach to educator shortages and workforce diversity, Part 2: Innovative Strategies and Examples Across the Talent Development Continuum. www.air.org/sites/default/files/2023-10/Prioritizing-Integrated-Approach-Educator-Shortages-Workforce-Diversity-Part-2-October-2023-v2.pdf.

Escobar, M., Bell, Z.K., Qazi, M., Kotoye, C.O., & Arcediano, F. (2021). Faculty time allocation at historically black universities and its relationship to institutional expectations. Frontiers in Psychology, 12, 734426. https://doi.org/10.3389/fpsyg.2021.734426.

IDEA Infant and Toddler Coordinators Association. (2021). Tipping points survey: Demographics, challenges, and opportunities. www.ideainfanttoddler.org/pdf/2021-Tipping-Points-Survey.pdf.

Kunemund, R., McCullough, S., Williams, C., Miller, C., Sutherland, K., Conroy, M., & Granger, K. (2020). The mediating role of teacher self-efficacy in the relation between teacher-child race mismatch and conflict. Psychology in the Schools, 57(11), 1757-1770. https://doi.org/10.1002/pits.22419.

Lamb, C. (Spring, 2016). Struggle and Success: The state of teacher education at tribal colleges and universities. Tribal College Journal of the American Indian Higher Education, 27(3). https://tribalcollegejournal.org/struggle-and-success-the-state-of-teacher-education-at-tribal-colleges-and-universities/.

Murray, L., Njoku, N. & Davis, R. (2022). Greater funding, greater needs: A report on funding for HBCUs. UNCF. https://cdn.uncf.org/wp-content/uploads/UNCF-Patterson-HBCUs-funding-report_V6.pdf?_ga=2.91635802.1540279182.1698942294-1282596027.1679956576.

National Coalition on Personnel Shortages in Special Education. (n.d.) About the shortage. https://specialedshortages.org/about-the-shortage/.

National Indian Education Association. (n.d.). Information on Native Students. www.niea.org/native-education-research.

Patterson, M.S., Wilder, T.L., Tazi, Y., Holman, K., Grace, B., Grays. A., Marino, M.T., Carter, R., & Perkins, M. (2022). Recruitment through Interaction and Strategic Enrollment: RISE Special Education. Toni Jennings Exceptional Education Institute. www.tjeei.org/map.

U.S. Department of Education. (2023a). Fact Sheet. www.ed.gov/news/press-releases/fact-sheet-biden-harris-administration-highlights-record-championing-historically-black-colleges-and-universities-hbcus.

U.S. Department of Education. (2023b). Raise the Bar Policy Brief: Eliminating educator shortages through increased compensation, high-quality and affordable educator preparation and teacher leadership. www.ed.gov/raisethebar/eliminating-educator-shortages-compensation-preparation-leadership.

U.S. Department of Education, Office of Special Education Programs. (2021). Personnel Development Program Data Collection System.

Waiver of Proposed Rulemaking: Under the Administrative Procedure Act (APA) (5 U.S.C. 553), the Department generally offers interested parties the opportunity to comment on proposed priorities. Section 681(d) of IDEA, however, makes the public comment requirements of the APA inapplicable to the priority in this notice.

Program Authority: 20 U.S.C. 1462 and 1481.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 304.

Note: The regulations in 34 CFR part 79 apply to all applicants except federally recognized Indian Tribes.

Note: The regulations in 34 CFR part 86 apply to IHEs only.

II. Award Information

Type of Award: Cooperative agreement.

Estimated Available Funds: The Administration has requested $250,000,000 for the Personnel Development to Improve Services and Results for Children with Disabilities program for FY 2024, of which we intend to use an estimated $2,400,000 for this competition. The actual level of funding, if any, depends on final congressional action. However, we are inviting applications to allow enough time to complete the grant process if Congress appropriates funds for this program.

Contingent upon the availability of funds and the quality of applications, we may make additional awards in FY 2025 from the list of unfunded applications from this competition.

Estimated Range of Awards: $125,000-$150,000 per year.

Estimated Average Size of Awards: $137,500 per year.

Maximum Award: We will not make an award exceeding $750,000 per project for a project period of 60 months.

Note: Applicants must describe, in their applications, the amount of funding being requested for each 12-month budget period.

Estimated Number of Awards: 16.

Note: The Department is not bound by any estimates in this notice.

Project Period: Up to 60 months.

III. Eligibility Information

1. Eligible Applicants: HBCUs, TCCUs, MSIs, and private nonprofit organizations that have legal authority to enter into grants and cooperative agreements with the federal government on behalf of an HBCU, TCCU, or MSI.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: This competition does not require cost sharing or matching.

b. Indirect Cost Rate Information: This program uses an unrestricted indirect cost rate. For more information regarding training indirect cost rates, see 34 CFR 75.562. For more information regarding indirect costs, or to obtain a negotiated indirect cost rate, please see https://www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: Under 34 CFR 75.708(b) and (c) a grantee under this competition may award subgrants—to directly carry out project activities described in its application—to the following types of entities: IHEs, nonprofit organizations suitable to carry out the activities proposed in the application, and other public agencies. The grantee may award subgrants to entities it has identified in an approved application or that it selects through a competition under procedures established by the grantee.

4. Other General Requirements:

(a) Recipients of funding under this competition must make positive efforts to employ and advance in employment qualified individuals with disabilities (see section 606 of IDEA).

(b) Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 7, 2022 (87 FR 75045) and available at www.federalregister.gov/documents/2022/12/07/2022-26554/common-instructions-for-applicants-to-department-of-education-discretionary-grant-programs, which contain requirements and information on how to submit an application.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are listed below:

(a) Significance (10 points).

(1) The Secretary considers the significance of the proposed project.

(2) In determining the significance of the proposed project, the Secretary considers the following factors:

(i) The extent to which the proposed project will prepare personnel for fields in which shortages have been demonstrated; and

(ii) The importance or magnitude of the results or outcomes likely to be attained by the proposed project, especially improvements in teaching and student achievement.

(b) Quality of project services (45 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable;

(ii) The extent to which the services to be provided by the proposed project reflect up-to-date knowledge from research and effective practice; and

(iii) The extent to which the training or professional development services to be provided by the proposed project are of sufficient quality, intensity, and duration to lead to improvements in practice among the recipients of those services.

(c) Quality of project personnel and quality of management plan (20 points).

(1) The Secretary considers the quality of the personnel who will carry out the proposed project and the quality of the management plan for the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of key project personnel;

(ii) The adequacy of the management plan to achieve the objectives of the proposed project on time and within budget, including clearly defined responsibilities, timelines, and milestones for accomplishing project tasks;

(iii) The extent to which the time commitments of the project director and principal investigator and other key project personnel are appropriate and adequate to meet the objectives of the proposed project; and

(iv) The adequacy of mechanisms for ensuring high-quality products and services from the proposed project.

(d) Adequacy of resources (10 points).

(1) The Secretary considers the adequacy of resources for the proposed project.

(2) In determining the adequacy of resources for the proposed project, the Secretary considers the following factors:

(i) The adequacy of support, including facilities, equipment, supplies, and other resources, from the applicant organization or the lead applicant organization; and

(ii) The extent to which the costs are reasonable in relation to the objectives, design, and potential significance of the proposed project.

(e) Quality of the project evaluation (15 points).

(1) The Secretary considers the quality of the evaluation to be conducted of the proposed project.

(2) In determining the quality of the evaluation, the Secretary considers the following factors:

(i) The extent to which the methods of evaluation are thorough, feasible, and appropriate to the goals, objectives, and outcomes of the proposed project; and

(ii) The extent to which the methods of evaluation will provide performance feedback and permit periodic assessment of progress toward achieving intended outcomes.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also. If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works.

Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of Department reporting under 34 CFR 75.110, the Department has established a set of performance measures, including long-term measures, that are designed to yield information on various aspects of the effectiveness and quality of the Personnel Development to Improve Services and Results for Children with Disabilities program. These measures include (1) the percentage of preparation programs that incorporate scientifically based research or evidence-based practices (EBPs) into their curricula; and (2) the percentage of scholars entering the preparation program who will be knowledgeable and skilled in EBPs that improve outcomes for children with disabilities.

The measures apply to projects funded under this competition, and grantees are required to submit data on these measures as directed by OSEP.

Grantees will be required to report information on their project's performance in annual and final performance reports to the Department (34 CFR 75.590).

The Department will also closely monitor the extent to which the products and services provided by the project meet needs identified by stakeholders and may require the project to report on such alignment in its annual and final performance reports.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Danté Allen,
Commissioner, Rehabilitation Services Administration, Office of Special Education and Rehabilitative Services.

[FR Doc. 2024-01413 Filed 1-24-24; 8:45 am]

BILLING CODE 4000-01-P